DEPARTMENT OF HEALTH AND HUMAN SERVICES

Office of the Secretary

Request for Comments To Inform HHS Initiative on Rural Communities

SUMMARY: The Department of Health and Human Services (HHS) is undertaking an examination of how each HHS agency's program can be strengthened to better serve rural communities. HHS seeks public comments to inform this process.

FOR FURTHER INFORMATION CONTACT: Dianne McSwain, HHS Office of Intergovermental Affairs, 202-401-5926 or Marcia Brand, HHS Health and Resources and Services Administration, Office of Rural Health Policy, 301-443-0835.

DATES: All comments must be received on or before the close of business on September 28, 2001.

ADDRESSES: All comments should be addressed to the HHS Initiative on Rural Communities, Department of Health and Human Services, Hubert H. Humphrey Building, 200 Independence Avenue, SW., Room 638-G, Washington, DC 20201. Comments may also be submitted through email to: rural.comments@hhs.gov. Individuals and organizations submitting comments are encouraged to include contact information for further clarification and a zip code to facilitate possible analysis of geographic distribution of the comments received.

SUPPLEMENTARY INFORMATION: On July 25, 2001, HHS Secretary Tommy G. Thompson announced the HHS Initiative on Rural Communities, a Department-wide effort to improve the provision of health and human services to rural families and individuals. An HHS Rural Task Force has been created to conduct a program-by-program examination of how HHS programs can improve services to rural communities. This internal HHS Rural Task Force; will examine how existing programs serve rural communities; will identify administrative, regulatory and statutory barriers to serving people in rural communities; will consider the impact of the HHS funding on rural economies; and will make recommendations to improve health care and social services to rural America. The HHS Task Force will report to the Secretary of Health and Human Services on October 25, 2001 with a detailed analysis of HHS programs and a strategic plan for sustaining the commitment to rural communities.

Recognizing the value of the insight and experience of those at the state, local, and tribal level serving rural communities, the HHS Task Force invites the public to submit to us your specific written comments on issues such as (1) Improving rural communities' access to quality health and human services; (2) strengthening rural families; (3) strengthening rural communities and supporting economic development; (4) partnering with State, local and Tribal governments to support rural communities; and (5) supporting a rural voice in federal policy making.

All comments should be submitted to the Department of Health and Human Services at the address noted above. The comments will be considered in the development of the report to Secretary Thompson and the ensuing strategic plan. Since the anticipated volume of responses will preclude a personal response to each of the comments, HHS wishes to thank you in advance for your comments.

Andrew C. Knapp,
Acting Director, Office of Intergovernmental Affairs.

[FR Doc. 01-21732 Filed 8-28-01; 8:45 am]

BILLING CODE 4150-03-P